DEPARTMENT OF ENERGY

Federal Energy Regulatory Commission

Combined Notice of Filings #1

Take notice that the Commission received the following electric corporate filings:

Docket Numbers: EC24-71-000.

Applicants: Public Service Company of Oklahoma, Southwestern Electric Power Company.

Description: Joint Application for Authorization Under Section 203 of the Federal Power Act of Public Service Company of Oklahoma, et al.

Filed Date: 4/18/24.

Accession Number: 20240418-5342.

Comment Date: 5 p.m. ET 5/9/24.

Take notice that the Commission received the following Complaints and Compliance filings in EL Dockets:

Docket Numbers: EL24-104-000.

Applicants: PJM Load Parties v. PJM Interconnection, LLC.

Description: Complaint of PJM Load Parties v. PJM Interconnection, LLC.

Filed Date: 4/22/24.

Accession Number: 20240422-5283.

Comment Date: 5 p.m. ET 5/1/24.

Take notice that the Commission received the following electric rate filings:

Docket Numbers: ER21-2460-007.

Applicants: New York Independent System Operator, Inc.

Description: Second informational report of the New York Independent System Operator, Inc. in compliance with the 04/20/2023 Order.

Filed Date: 4/22/24.

Accession Number: 20240422-5357.

Comment Date: 5 p.m. ET 5/13/24.

Docket Numbers: ER23-1497-002.

Applicants: GSG Wind, LLC.

Description: Notice of Change in Status of GSG Wind, LLC.

Filed Date: 4/22/24.

Accession Number: 20240422-5359.

Comment Date: 5 p.m. ET 5/13/24.

Docket Numbers: ER24-965-002.

Applicants: Versant Power.

Description: Tariff Amendment: Request to Continue Paused Action on Notice of Cancellation (ER24-965-) to be effective 12/31/9998.

Filed Date: 4/23/24.

Accession Number: 20240423-5069.

Comment Date: 5 p.m. ET 5/14/24.

Docket Numbers: ER24-1350-001.

Applicants: Atrisco Solar SF LLC.

Description: Tariff Amendment: Amendment to Shared Facilities Agreement to be effective 5/1/2024.

Filed Date: 4/23/24.

Accession Number: 20240423-5000.

Comment Date: 5 p.m. ET 5/14/24.

Docket Numbers: ER24-1513-000.

Applicants: Pacific Gas and Electric Company.

Description: Amendment to 03/15/2024 Abandoned Transmission Plant Recovery Request of Pacific Gas and Electric Company.

Filed Date: 4/18/24.

Accession Number: 20240418-5344.

Comment Date: 5 p.m. ET 5/9/24.

Docket Numbers: ER24-1814-000.

Applicants: AEP Texas Inc.

Description: § 205(d) Rate Filing: AEPTX—Texas-New Mexico Power Company Facilities Development Agreement to be effective 4/5/2024.

Filed Date: 4/22/24.

Accession Number: 20240422-5276.

Comment Date: 5 p.m. ET 5/13/24.

Docket Numbers: ER24-1815-000.

Applicants: Calpine New Jersey Generation, LLC.

Description: § 205(d) Rate Filing: Proposed Revisions to Reactive Service Rate Schedule and Requests for Waiver to be effective 6/1/2024.

Filed Date: 4/23/24.

Accession Number: 20240423-5061.

Comment Date: 5 p.m. ET 5/14/24.

Docket Numbers: ER24-1816-000.

Applicants: High River Energy Center, LLC.

Description: Baseline eTariff Filing: High River Energy Center, LLC Application for MBR Authorization with Waivers to be effective 5/28/2024.

Filed Date: 4/23/24.

Accession Number: 20240423-5067.

Comment Date: 5 p.m. ET 5/14/24.

Docket Numbers: ER24-1817-000.

Applicants: San Diego Gas & Electric.

Description: § 205(d) Rate Filing: W260 SGIA to be effective 4/24/2024.

Filed Date: 4/23/24.

Accession Number: 20240423-5109.

Comment Date: 5 p.m. ET 5/14/24.

Docket Numbers: ER24-1818-000.

Applicants: El Paso Electric Company.

Description: Tariff Amendment: Cancellation of Rate Schedule No. 321, EPE and TEP, SRSGP Agreement to be effective 5/1/2024.

Filed Date: 4/23/24.

Accession Number: 20240423-5116.

Comment Date: 5 p.m. ET 5/14/24.

Docket Numbers: ER24-1819-000.

Applicants: Tri-State Generation and Transmission Association, Inc.

Description: § 205(d) Rate Filing: Amendment to Rate Schedule FERC No. 10 to be effective 6/24/2024.

Filed Date: 4/23/24.

Accession Number: 20240423-5140.

Comment Date: 5 p.m. ET 5/14/24.

Docket Numbers: ER24-1820-000.

Applicants: PacifiCorp.

Description: § 205(d) Rate Filing: Colstrip Trans System LGIA—Concurrence Haymaker Energy to be effective 4/12/2024.

Filed Date: 4/23/24.

Accession Number: 20240423-5148.

Comment Date: 5 p.m. ET 5/14/24.

Docket Numbers: ER24-1821-000.

Applicants: Duke Energy Carolinas, LLC.

Description: § 205(d) Rate Filing: DEC-PMPA NITSA SA No. 355 to be effective 7/1/2024.

Filed Date: 4/23/24.

Accession Number: 20240423-5159.

Comment Date: 5 p.m. ET 5/14/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: April 23, 2024.
Debbie-Anne A. Reese,
Acting Secretary.

[FR Doc. 2024-09202 Filed 4-29-24; 8:45 am]

BILLING CODE 6717-01-P